DEPARTMENT OF THE INTERIOR

National Park Service

[NPS-WASO-NAGPRA-19605; PPWOCRADN0-PCU00RP14.R50000]

Notice of Inventory Completion: Neville Public Museum of Brown County, Green Bay, WI

AGENCY: National Park Service, Interior.

ACTION: Notice.

SUMMARY: The Neville Public Museum of Brown County has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to the Neville Public Museum of Brown County. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the Neville Public Museum of Brown County at the address in this notice by December 17, 2015.

ADDRESSES: Louise Pfotenhauer, Neville Public Museum of Brown County, 210 Museum Place, Green Bay, WI 54303, telephone (920) 448-7845, email Pfotenhauer_lc@co.brown.wi.us.

SUPPLEMENTARY INFORMATION: Notice is here given in accordance with the Native American Graves Protection and Repatriation Act (NAGPRA), 25 U.S.C. 3003, of the completion of an inventory of human remains and associated funerary objects under the control of the Neville Public Museum of Brown County, Green Bay, WI. The human remains and associated funerary objects were removed from an unknown location in South Dakota.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Neville Public Museum of Brown County professional staff in consultation with representatives of the Yankton Sioux Tribe of South Dakota.

History and Description of the Remains

Prior to 1970, human remains representing, at minimum, one individual were acquired by James Dobry Sr. from an unknown area of South Dakota, as part of a 36” long necklace identified by him as being “authentic Sioux with claws, beads, and teeth.” In 1970, the human remains were donated to the Neville Public Museum of Brown County. No known individuals were identified. The 94 associated funerary objects which are all part of the necklace include 43 raptor claws and mammal canines, 20 glass and clay beads, 29 shells, and two non-human phalanges. Trade beads indicate this is an historic period necklace.

Determinations Made by the Neville Public Museum of Brown County

Officials of the Neville Public Museum of Brown County have determined that:

• Pursuant to 25 U.S.C. 3001(9), the human remains described in this notice represent the physical remains of 1 individuals of Native American ancestry.

• Pursuant to 25 U.S.C. 3001(3)(A), the 94 objects described in this notice are reasonably believed to have been placed with or near individual human remains at the time of death or later as part of the death rite or ceremony.

• Pursuant to 25 U.S.C. 3001(2), there is a relationship of shared group identity that can be reasonably traced between the Native American human remains and associated funerary objects and Yankton Sioux Tribe of South Dakota.

Additional Requestors and Disposition

Lineal descendants or representatives of any Indian tribe or Native Hawaiian organization not identified in this notice that wish to request transfer of control of these human remains and associated funerary objects should submit a written request with information in support of the request to Louise Pfotenhauer, Neville Public Museum of Brown County, 210 Museum Place, Green Bay, WI 54303, telephone (920) 448-7845, email Pfotenhauer_lc@co.brown.wi.us, by December 17, 2015. After that date, if no additional requestors have come forward, transfer of control of the human remains and associated funerary objects to Yankton Sioux Tribe of South Dakota may proceed.

The Neville Public Museum of Brown County is responsible for notifying the Yankton Sioux Tribe of South Dakota that this notice has been published.

Dated: October 16, 2015.
Melanie O'Brien,
Manager, National NAGPRA Program.

[FR Doc. 2015-29351 Filed 11-16-15; 8:45 am]

BILLING CODE 4312-50-P